DEPARTMENT OF DEFENSE

Department of the Army, Corps of Engineers

Intent To Prepare a Draft Environmental Impact Statement for the Proposed Pine Hills Casino and Resort, Located in Harrison County, Mississippi

AGENCY: U.S. Army Corps of Engineers, DoD.

ACTION: Notice of Intent.

SUMMARY: The Mobile District, U.S. Army Corps of Engineers (Corps), intends to prepare a Draft Environmental Impact Statement (DEIS) to address the potential impacts associated with the construction of the proposed Pine Hills Casino and Resort located on the Bay of St. Louis, in Harrison County, Mississippi. The Corps will be evaluating a permit application for the work under the authority of Section 10 of the Rivers and Harbors Act and Section 404 of the Clean Water Act. The EIS will be used as a basis for the permit decision and to ensure compliance with the National Environmental Policy Act (NEPA).

FOR FURTHER INFORMATION CONTACT: Questions about the proposed action and the DEIS should be addressed to Mr. John McFadyen, Regulatory Branch, phone (334) 690-3261, or Dr. Susan Ivester Rees, Coastal Environment Team, phone (334) 694-4141, Mobile District, U.S. Army Corps of Engineers, P.O. Box 2288, Mobile, AL 36628.

SUPPLEMENTARY INFORMATION: 1. The permit applicant is proposing to construct a casino development on the northern shore of the Bay of St. Louis consisting of the following: A casino mooring facility consisting of breasting dolphins and a 520-foot-long by 330-foot-wide low water sediment control structure. The control structure will consist of 1,250 linear feet of sheet pile and a water aeration system. The 3.9-acre basin within the control structure will be mechanically excavated to minus 7.0 feet, mean low water. The 32,000 cubic yards of excavated material will be deposited at a 15-acre upland disposal site. A 500-foot-long by 300-foot-wide casino barge will be moored in the basin. A 450-foot-long bulkhead will be installed along the shoreline fronting the casino. A 700-foot-long by 8-foot-wide pier and 24-inch diameter water intake/transmission line will be constructed east of the casino. Related upland development includes a 30 story, 1,400-room hotel; an access road from the Interstate Highway 10 Kiln-DeLisle exit; parking facilities for 3,500 vehicles; stormwater detention ponds; and three entrance road bridges spanning non-tidal wetlands. Water and sewer facilities will be constructed by Pine Hills Development Partnership and turned over to Harrison County for operation and maintenance. The proposed project will result in the dredging of approximately 3.2 acres of shallow water bottoms for the casino mooring basin. Approximately 0.033 acre of marsh vegetation at the casino basin site has been relocated to an adjacent 0.1 acre site. No other wetlands or “special aquatic sites” will be excavated or filled. Upland development associated with the project will cover up to 63 acres of primarily pine plantation.

2. Alternatives to the applicant's proposal may exist which would reduce the impacts to the Bay of St. Louis. These could include alternate sites, or alternative sites layouts, or alternative operational methods.

3. Scoping: a. The Corps invites full public participation to promote open communication on the issues surrounding the proposal. All Federal, State, and local agencies, and other persons or organizations that have an interest are urged to participate in the NEPA scoping process. A public meeting will be held to help identify significant issues and to receive public input and comment.

b. The DEIS will analyze the potential social, economic, and environmental impacts to the local area resulting from the proposed project. Specifically, the following major issues will be analyzed in depth in the DEIS: hydrologic and hydraulic regimes, essential fish habitat and other marine habitat, air quality, cultural resources, wastewater treatment capacities and discharges, transportation systems, alternatives, secondary and cumulative impacts, socioeconomics, environmental justice (effect on minorities and low-income groups), and protection of children (Executive Order 13045).

c. The Corps will serve as the lead Federal agency in the preparation of the DEIS. It is anticipated that the following agencies will be invited and will accept cooperating agency status for the preparation of the DEIS: U.S. Environmental Protection Agency, U.S. Department of the Interior-Fish and Wildlife Service, U.S. Department of Commerce—National Marine Fisheries Service, U.S. Department of Transportation—Federal Highway Administration.

4. The scoping meeting will be held on November 21, 2000 at the DeLisle Elementary School in DeLisle, Mississippi beginning at 6:30 p.m.

5. It is anticipated that the DEIS will be made available for public review in summer 2001.

Ronald A. Krizman,
Chief, Regulatory Branch.

[FR Doc. 00-27647 Filed 10-26-00; 8:45 am]

BILLING CODE 3710-CR-M